DEPARTMENT OF JUSTICE

Notice of Lodging of Proposed Consent Decree Under the Clean Water Act and Oil Pollution Act

On October 13, 2021, the Department of Justice lodged a proposed Consent Decree with the United States District Court for the Northern District of Illinois in the lawsuit entitled United States and Illinois v. Buckeye Pipe Line Company, L.P. and West Shore Pipe Line Company, Civil Action No. 21-cv-5424.

The United States filed a Complaint for civil penalties and injunctive relief alleging violations of Sections 311(b) and 404(s) of the Clean Water Act (CWA) arising out of the discharge of approximately 1,857 barrels of crude oil from a pipeline near Lockport, Will County, Illinois. The State of Illinois joined the United States claim under Section 1002 of the Oil Pollution Act for injuries to natural resources. The United States' complaint names as defendants Buckeye Pipe Line Company, L.P., the operator of the pipeline, and West Shore Pipe Line Company, the owner of the pipeline. Both defendants signed the proposed Consent Decree to resolve these claims, agreeing to pay a total of $1,500,000 in civil penalties and $7,200,000 in natural resource damages and wetland mitigation.

The publication of this notice opens a period for public comment on the Consent Decree. Comments should be addressed to the Assistant Attorney General, Environment and Natural Resources Division, and should refer to United States and Illinois v. Buckeye Pipe Line Co., L.P., et al., D.J. Ref. Nos. 90-5-1-1-11370 and 90-5-1-1-20834. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the Consent Decree may be examined and downloaded at this Justice Department website: https://www.justice.gov/enrd/consent-decrees. We will provide a paper copy of the Decree upon written request and payment of reproduction costs. Please mail your request and payment to: Consent Decree Library, U.S. DOJ-ENRD, P.O. Box 7611, Washington, DC 20044-7611.

Please enclose a check or money order for $14.75 (25 cents per page reproduction cost) payable to the United States Treasury.

Patricia McKenna,
Assistant Section Chief, Environmental Enforcement Section, Environment and Natural Resources Division.

[FR Doc. 2021-22822 Filed 10-19-21; 8:45 am]

BILLING CODE 4410-15-P